DEPARTMENT OF COMMERCE

Submission for OMB Review; Comment Request; Voluntary Self-Disclosure of Violations of the Export Administration Regulations

The Department of Commerce will submit to the Office of Management and Budget (OMB) for clearance the following proposal for collection of information under the provisions of the Paperwork Reduction Act (44 U.S.C. Chapter 35).

Agency: Bureau of Industry and Security.

Title: Voluntary Self-Disclosure of Violations of the Export Administration Regulations.

Form Number(s): N/A.

OMB Control Number: 0694-0058.

Type of Review: Regular submission.

Estimated Total Annual Burden Hours: 3,880.

Estimated Number of Respondents: 388.

Estimated Time per Response: 10 hours.

Needs and Uses: This collection of information is needed to detect violations of the Export Administration Act and Regulations, and determine if an investigation or prosecution is necessary and to reach a settlement with violators.

Affected Public: Business or other for-profit organizations.

Frequency: On occasion.

Respondent's Obligation: Voluntary.

This information collection request may be viewed at reginfo.gov http://www.reginfo.gov/public/. Follow the instructions to view Department of Commerce collections currently under review by OMB.

Written comments and recommendations for the proposed information collection should be sent within 30 days of publication of this notice to OIRA_Submission@omb.eop.gov.

Sheleen Dumas,
PRA Departmental Lead, Office of the Chief Information Officer.

[FR Doc. 2017-01498 Filed 1-23-17; 8:45 am]

BILLING CODE 3510-33-P